DEPARTMENT OF ENERGY

Federal Energy Regulatory Commission

Combined Notice of Filings #1

February 17, 2010.

Take notice that the Commission received the following electric rate filings:

Docket Numbers: ER99-1005-012; ER03-1079-012; ER09-304-003

Applicants: Kansas City Power & Light Company; KCP & L Greater Missouri Operations Company

Description: Quarterly Report Pursuant to Order 697-C of Kansas City Power & Light Company and KCP & L Greater Missouri Operations Company.

Filed Date: 01/29/2010

Accession Number: 20100129-5195

Comment Date: 5 p.m. Eastern Time on Friday, February 26, 2010

Docket Numbers: ER99-3151-016; ER97-837-013; ER08-448-006; ER03-327-008; ER08-447-006

Applicants: PSEG Energy Resources & Trade LLC; Public Service Electric and Gas Company; PSEG Power Connecticut LLC; PSEG Fossil LLC; PSEG Nuclear LLC

Description: Order 697-C “Catch-Up” Generation Siting Report for the PSEG Companies.

Filed Date: 01/29/2010

Accession Number: 20100129-5115

Comment Date: 5 p.m. Eastern Time on Friday, February 19, 2010

Docket Numbers: ER99-3151-015; ER97-837-012; ER08-447-005; ER08-448-005; ER03-327-007

Applicants: PSEG Energy Resources & Trade LLC; Public Service Electric and Gas Company; PSEG Power Connecticut LLC; PSEG Fossil LLC; PSEG Nuclear LLC

Description: Order 697-C—Quarterly Generation Siting Report for the PSEG Companies.

Filed Date: 01/29/2010

Accession Number: 20100129-5114

Comment Date: 5 p.m. Eastern Time on Friday, February 19, 2010

Docket Numbers: ER00-1803-006; ER01-457-007; ER02-1485-009; ER03-1109-009; ER03-1108-009; ER94-1384-036; ER99-2329-007; ER04-733-005; ER08-1432-003

Applicants: Morgan Stanley Capitol Group Inc.; MS Solar Solutions Corp.; Naniwa Energy LLC; Power Contract Finance, L.L.C.; Power Contract Financing II, Inc.; Power Contract Financing II, L.L.C.; South Eastern Generating Corp.; South Eastern Electric Development Corp.; Utility Contract Funding II, LLC

Description: Notice of Change in Status of Morgan Stanley Capital Group Inc., et al. Pursuant to Order 697-C.

Filed Date: 01/29/2010.

Accession Number: 20100129-5118.

Comment Date: 5 p.m. Eastern Time on Friday, February 26, 2010.

Docket Numbers: ER00-3068-011; ER01-1071-017; ER01-1972-010; ER01-2074-010; ER01-2139-014; ER01-838-010; ER02-1903-013; ER02-2018-011; ER02-2120-009; ER02-2166-011; ER02-2559-012; ER02-256-004; ER02-669-010; ER03-1025-006; ER03-1103-007; ER03-1104-013; ER03-1105-013; ER03-1332-006; ER03-1333-007; ER03-1375-008; ER03-155-010; ER03-179-009; ER03-34-016; ER03-623-010; ER04-127-008; ER04-187-009; ER04-290-007; ER04-947-009; ER05-222-007; ER05-236-009; ER05-487-007; ER05-714-006; ER06-1261-011; ER06-9-012; ER07-1157-006; ER07-174-011; ER07-875-005; ER08-1293-006; ER08-1294-006; ER08-1296-006; ER08-1297-006; ER08-1300-006; ER08-197-010; ER08-250-007; ER09-1297-002; ER09-138-004; ER09-1462-002; ER09-1656-002; ER09-1760-001; ER09-832-005; ER09-900-003; ER09-901-003; ER09-902-003; ER09-988-005; ER09-989-005; ER09-990-004; ER10-1-001; ER10-149-002; ER10-2-001; ER10-256-001; ER10-296-001; ER10-297-001; ER10-3-001; ER10-402-001; ER97-3359-017; ER98-2076-019; ER98-3511-015; ER98-3563-015; ER98-3564-017; ER99-2917-013.

Applicants: FPL Group Companies

Description: Fourth Quarter Site Control Quarterly Filing of FPL Group Companies Pursuant to Order 697-C.

Filed Date: 02/01/2010.

Accession Number: 20100202-5054.

Comment Date: 5 p.m. Eastern Time on Monday, February 22, 2010.

Docket Numbers: ER00-3614-013

Applicants: BP Energy Company

Description: BP Energy Company submits supplements to its 12/31/09 filing of updated market power analysis for study period of 12/1/06-11/30/07.

Filed Date: 02/01/2010.

Accession Number: 20100204-0035.

Comment Date: 5 p.m. Eastern Time on Monday, February 22, 2010.

Docket Numbers: ER01-1403-011; ER04-366-009; ER06-1443-007; ER01-2968-012; ER01-845-010; ER05-1122-008; ER08-107-005.

Applicants: FirstEnergy Operating Companies; Pennsylvania Power Company; Jersey Central Power & Light Company; FirstEnergy Solutions Corp; FirstEnergy Generation Corporation; First Energy Nuclear Generation Corp.; FirstEnergy Generation Mansfield Unit 1 Corp.

Description: Non-Material Change in Status Report Regarding Acquisition of Control Over Generation Site of FirstEnergy Generation Corp., et al. Pursuant to Order 697-C.

Filed Date: 01/29/2010.

Accession Number: 20100129-5160.

Comment Date: 5 p.m. Eastern Time on Friday, February 26, 2010.

Docket Numbers: ER01-1822-006

Applicants: Indigo Generation LLC; Larkspur Energy LLC; Wildflower Energy LP.

Description: Indigo Generation LLC, et al. submits their Second Supplement to September 11 Supplement to the Notification of Non-Material Change in Status and Request for Waiver.

Filed Date: 01/29/2010.

Accession Number: 20100129-5239.

Comment Date: 5 p.m. Eastern Time on Friday, February 19, 2010.

Docket Numbers: ER05-717-014; ER05-721-014; ER04-374-015; ER06-230-011; ER07-810-009; ER08-237-009; ER08-1172-008; ER09-430-005; ER09-429-005; ER99-2341-017; ER06-1334-011; ER07-277-010; ER09-946-004; ER09-1339-004; ER09-1340-004; ER09-1341-004; ER09-1342-004.

Applicants: Spring Canyon Energy LLC; Judith Gap Energy LLC; Invenergy TN LLC; Wolverine Creek Energy LLC; Grays Harbor Energy LLC; Forward Energy LLC; Grand Ridge Energy LLC; Willow Creek Energy LLC; Sheldon Energy LLC; Hardee Power Partners Limited; Spindle Hill Energy LLC; Invenergy Cannon Falls LLC; Beech Ridge Energy LLC; Grand Ridge Energy II LLC; Grand Ridge Energy III LLC; Grand Ridge Energy IV LLC; Grand Ridge Energy V LLC.

Description: Change in Facts Notice of Spring Canyon Energy LLC, et al. Pursuant to Order 697-C.

Filed Date: 01/29/2010.

Accession Number: 20100129-5120.

Comment Date: 5 p.m. Eastern Time on Friday, February 26, 2010.

Docket Numbers: ER05-1482-005; ER94-1188-049; ER08-1168-002; ER09-1505-003; ER98-4540-018; ER99-1623-018.

Applicants: Electric Energy Inc.; Kentucky Utilities Company; LG&E Energy Marketing Inc.; Louisville Gas & Electric Company; Munnsville Wind Farm, LLC; Stony Creek Wind Farm, LLC.

Description: Electric Energy, Inc., et al., Notice of Non-Material Change in Status under 18 CFR 35.42(d) Q4 2009.

Filed Date: 01/29/2010.

Accession Number: 20100129-5110.

Comment Date: 5 p.m. Eastern Time on Friday, February 26, 2010.

Docket Numbers: ER06-1014-009.

Applicants: NYISO.

Description: NYISO Seventh Price Validation Informational Report.

Filed Date: 01/29/2010.

Accession Number: 20100129-5204.

Comment Date: 5 p.m. Eastern Time on Friday, February 19, 2010.

Docket Numbers: ER06-1407-006; ER06-1408-006; ER06-1409-006; ER06-14130-006; ER08-577-007; ER08-578-007; ER08-579-008.

Applicants: Noble Bliss Windpark, LLC; Noble Ellenburg Windpark, LLC; Nobile Altona Windpark, LLC; Noble Clinton Windpark I, LLC.

Description: Quarterly Report for the fourth quarter of 2009 under Order 697-C of Noble Bliss Windpark, LLC, et al.

Filed Date: 01/29/2010.

Accession Number: 20100129-5168.

Comment Date: 5 p.m. Eastern Time on Friday, February 26, 2010.

Docket Numbers: ER08-1226-006; ER09-1320-002; ER03-1284-010; ER05-1202-010; ER09-1321-004; ER08-1225-008; ER05-1262-025; ER06-1093-021; ER07-407-008; ER06-1122-007; ER09-1323-003; ER09-1322-003; ER09-1481-002; ER07-522-007; ER08-1111-007; ER08-1227-005; ER09-1482-002; ER07-342-006; ER08-1228-004.

Applicants: Arlington Wind Power Project LLC; Blackstone Wind Farm LLC; Blue Canyon Windpower LLC; Blue Canyon Windpower II LLC; Blue Canyon Windpower V LLC; Cloud County Wind Farm, LLC; Flat Rock Windpower LLC; Flat Rock Windpower II LLC; High Prairie Wind Farm II, LLC; High Trial Wind Farm, LLC; Lost Lakes Wind Farm LLC; Meadow Lakes Wind Farm LLC; Meadow Lake Wind Farm II LLC; Old Trail Wind Farm, LLC; Pioneer Prairie Wind Farm I, LLC; Rail Splitter Wind Farm, LLC; Sagebrush Power Partners, LLC; Telocaset Wind Power Partners, LLC; Wheat Field Wind Power Project LLC.

Description: Notice of Non-Material Change in Status of Arlington Wind Power Project LLC, et al. Pursuant to Order 697-C.

Filed Date: 01/29/2010.

Accession Number: 20100129-5117.

Comment Date: 5 p.m. Eastern Time on Friday, February 26, 2010.

Docket Numbers: ER09-174-005; ER10-426-002.

Applicants: Evergreen Wind Power V, LLC; Stetson Wind II, LLC.

Description: Notice of Consummation and Non-Material Change in Status of First Wind Holdings, et al.

Filed Date: 02/04/2010.

Accession Number: 20100204-5120.

Comment Date: 5 p.m. Eastern Time on Thursday, February 25, 2010.

Docket Numbers: ER10-310-002; ER10-642-001; ER10-643-001.

Applicants: Algonquin Energy Services Inc.; Algonquin Tinker Gen Co.

Description: Algonquin Companies submits notice of change regarding market-based rate authority.

Filed Date: 01/28/2010.

Accession Number: 20100203-0208.

Comment Date: 5 p.m. Eastern Time on Thursday, February 18, 2010.

Docket Numbers: ER10-374-001.

Applicants: Medicine Bow Power Partners, LLC.

Description: Request of Medicine Bow Power Partners, LLC for Waiver of Requirements Under 18 CFR 35.42(d) and (e).

Filed Date: 01/29/2010.

Accession Number: 20100129-5238.

Comment Date: 5 p.m. Eastern Time on Friday, February 26, 2010.

Docket Numbers: ER10-553-001.

Applicants: Hannaford Energy, LLC.

Description: Hannaford Energy, LLC submits Original Sheet 1 et al. to FERC Electric Tariff, Original Volume 1 to be effective 3/8/10.

Filed Date: 02/05/2010.

Accession Number: 20100216-0221.

Comment Date: 5 p.m. Eastern Time on Friday, February 26, 2010.

Docket Numbers: ER10-621-000.

Applicants: Noble Energy Marketing and Trading Corp.

Description: Amendment of Application of Noble Energy Marketing and Trading Corp.

Filed Date: 02/05/2010.

Accession Number: 20100205-5045.

Comment Date: 5 p.m. Eastern Time on Friday, February 26, 2010.

Docket Numbers: ER10-644-001.

Applicants: PJM Interconnection, LLC.

Description: PJM Interconnection, LLC submits errata filing to correct a formatting error in the submitted Operating Agreement sheets.

Filed Date: 02/05/2010.

Accession Number: 20100216-0222.

Comment Date: 5 p.m. Eastern Time on Friday, February 26, 2010.

Docket Numbers: ER10-712-000.

Applicants: AES ES Westover, LLC.

Description: Application of AES ES Westover, LLC for Acceptance of Market-Based Rate Tariff etc.

Filed Date: 02/05/2010.

Accession Number: 20100216-0247.

Comment Date: 5 p.m. Eastern Time on Friday, February 26, 2010.

Docket Numbers: ER10-718-000.

Applicants: February Futures LLC.

Description: February Futures, LLC submits an application for market-based rate authorization.

Filed Date: 02/16/2010.

Accession Number: 20100217-0206.

Comment Date: 5 p.m. Eastern Time on Tuesday, March 9, 2010.

Docket Numbers: ER10-720-000.

Applicants: Northeastern Power Company.

Description: Northeastern Power Company requests acceptance of initial market-based rate tariff, waivers and blanket authority, effective February 5, 2010.

Filed Date: 02/04/2010.

Accession Number: 20100212-0202.

Comment Date: 5 p.m. Eastern Time on Thursday, February 25, 2010.

Take notice that the Commission received the following electric securities filings:

Docket Numbers: ES10-18-000.

Applicants: Wolverine Power Supply Cooperative, Inc.

Description: Supplement to Application for Authorization of the Assumption of Liabilities and the Issuance of Securities Under Section 204 of the Federal Power Act by Wolverine Power Supply Cooperative, Inc.

Filed Date: 02/05/2010.

Accession Number: 20100205-5046.

Comment Date: 5 p.m. Eastern Time on Monday, February 22, 2010.

Docket Numbers: ES10-22-001.

Applicants: Rochester Gas and Electric Corporation.

Description: Rochester Gas and Electric Corporation's Supplement to Application for Authorization to Issue Short-Term Debt Under Section 204 of the Federal Power Act.

Filed Date: 02/16/2010.

Accession Number: 20100216-5218.

Comment Date: 5 p.m. Eastern Time on Friday, February 26, 2010.

Docket Numbers: ES10-23-001.

Applicants: New York State Electric & Gas Corp.

Description: New York State Electric & Gas Corporation's Supplement to Application for Authorization to Issue Short-Term Debt Under Section 204 of the Federal Power Act.

Filed Date: 02/16/2010.

Accession Number: 20100216-5229.

Comment Date: 5 p.m. Eastern Time on Friday, February 26, 2010.

Docket Numbers: ES10-24-001.

Applicants: Central Maine Power Company.

Description: Central Maine Power Company's Supplement to Application for Authorization to Issue Short-Term Debt Under Section 204 of the Federal Power Act.

Filed Date: 02/16/2010.

Accession Number: 20100216-5228.

Comment Date: 5 p.m. Eastern Time on Friday, February 26, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-3798 Filed 2-24-10; 8:45 am]

BILLING CODE 6717-01-P